Proclamation 8912 of November 30, 2012

Minority Enterprise Development Week, 2012

By the President of the United States of America

A Proclamation

At the core of who we are as a Nation is a fundamental belief: that no matter who you are, no matter what you look like, no matter where you come from, if you have an idea and a willingness to work hard, you can succeed. It is this belief that leads a worker to leave a job to become her own boss, propels a basement inventor to sell a new product, or drives an amateur chef to open a restaurant. It is this belief that has drawn millions to our shores and spurred America's prosperity for centuries.

The belief in tomorrow's promise is guiding minority entrepreneurs across our country to start the kinds of businesses that make up the backbone of our economy. With a combined economic output of $1 trillion, minority-owned firms are key producers in an array of industries, hubs of innovation and new technology, and engines of job creation in our communities.

Because the continued growth and success of minority enterprises is essential to our economic recovery, my Administration has taken steps to help bolster these businesses. Through the Minority Business Development Agency, we are providing access to capital, consulting, contracts, and markets to minority entrepreneurs seeking to expand their businesses at home and overseas. We are also making it easier for business owners to find Federal resources with www.BusinessUSA.gov, a centralized, one-stop platform for businesses to access services to help them grow and hire.

As the number and size of minority-owned firms continue to expand, we must harness the diversity and power of these businesses to help strengthen our economy and put people back to work. As we celebrate the 30th anniversary of Minority Enterprise Development Week, let us honor the role America's minority-owned businesses play in spurring our prosperity and recommit to equipping them with the tools for success in the 21st century.

NOW, THEREFORE, I, BARACK OBAMA, President of the United States of America, by virtue of the authority vested in me by the Constitution and the laws of the United States, do hereby proclaim December 2 through December 8, 2012, as Minority Enterprise Development Week. I call upon all Americans to celebrate this week with appropriate programs, ceremonies, and activities to recognize the many contributions of our Nation's minority enterprises.

IN WITNESS WHEREOF, I have hereunto set my hand this thirtieth day of November, in the year of our Lord two thousand twelve, and of the Independence of the United States of America the two hundred and thirty-seventh.

[FR Doc. 2012-29576

Filed 12-4-12; 11:15 am]

Billing code 3295-F3